DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White HIV/AIDS Program (Part C) Early Intervention Services One-Time Noncompetitive Award to Ensure Continued HIV Primary Medical Care.

SUMMARY: To prevent a lapse in comprehensive primary care services for persons living with HIV/AIDS, HRSA will provide one-time noncompetitive Part C funds to the Hoboken Community Healthcare, Inc., Hoboken, New Jersey.

SUPPLEMENTARY INFORMATION: The amount of the award to ensure ongoing HIV medical services is $327,166.

Authority: Section 2651 of the Public Health Service Act, 42 U.S.C. § 300ff-51.

CFDA Number: 93.918.

Project period: The period of support for this award is from January 1, 2013, through June 30, 2013.

Justification for the Exception to Competition: Hoboken Municipal Hospital Authority (HMHA), Hoboken, NJ; H76HA07886 announced the December 31, 2012, relinquishment of their Part C grant to Hoboken Community Healthcare, Inc., a nonprofit 501(c)(3) organization that purchased the hospital and associated clinics. Hoboken Community Healthcare, Inc. has been identified as an interim provider of the Part C grant. The amount of $327,166 will be awarded to Hoboken Community Healthcare, Inc., which represents a proportional share of the last award to HMHA. This funding will support HIV medical care until the start of a new funding cycle under HRSA-13-168 with a July 1, 2013, start date.

FOR FURTHER INFORMATION CONTACT: John Fanning; by email at jfanning@hrsa.gov or by phone, 301-443-0493.

Dated: February 6, 2013.
Mary K. Wakefield,
Administrator.

[FR Doc. 2013-03295 Filed 2-12-13; 8:45 am]

BILLING CODE 4165-15-P